NATIONAL AERONAUTICS AND SPACE ADMINISTRATION

[Notice: 22-040]

NASA Planetary Science Advisory Committee; Meeting

AGENCY: National Aeronautics and Space Administration.

ACTION: Notice of meeting.

SUMMARY: In accordance with the Federal Advisory Committee Act, as amended, the National Aeronautics and Space Administration (NASA) announces a meeting of the Planetary Science Advisory Committee. The meeting will be held for the purpose of soliciting, from the scientific community and other persons, scientific and technical information relevant to program planning.

DATES: Tuesday, June 21, 2022, 12:00 p.m. to 6:00 p.m.; Wednesday, June 22, 2022, 10:00 a.m. to 6:00 p.m.; and Thursday, June 23, 2022, 10:00 a.m. to 6:00 p.m. Note: All times listed are Eastern Time.

ADDRESSES: NASA Headquarters, Room 8R40, 300 E Street SW, Washington DC 20546.

FOR FURTHER INFORMATION CONTACT: Ms. KarShelia Kinard, Science Mission Directorate, NASA Headquarters, Washington, DC 20546, (202) 358-2355 or karshelia.kinard@nasa.gov.

SUPPLEMENTARY INFORMATION: The meeting will be open to the public up to the capacity of the room. The meeting will also be available telephonically and via WebEx. For Tuesday, June 21, the WebEx information for attendees is: https://nasaevents.webex.com/nasaevents/j.php?MTID=mda51ad787d5b7783fca775b4e68c3f80. The WebEx number is: 2762 055 5578 and the password is XJgRNbNB353 (95476262 from phones). To join by telephone call, use US Toll: +1-415-527-5035 (Access Code: 276 205 55578). For Wednesday, June 22, the WebEx information for attendees is: https://nasaevents.webex.com/nasaevents/j.php?MTID=m70025abdbeb5bbacc34d2e6981bbc504. The WebEx number is: 2762 423 0318 and the password is kiNQPeF4V52 (54677334 from phones). To join by telephone call, use US Toll: +1-415-527-5035 (Access Code: 276 242 30318). For Thursday, June 23, the WebEx information for attendees is: https://nasaevents.webex.com/nasaevents/j.php?MTID=m03f1b23e28838670f76363f664819fa0.

The WebEx number is: 2762 920 8201 and the password is 8yiSPwY3MM2 (89477993 from phones). To join by telephone call, use US Toll: +1-415-527-5035 (Access Code: 276 292 08201).

Accessibility: Captioning will be provided for this meeting. We are committed to providing equal access to this meeting for all participants. If you need alternative formats or other reasonable accommodations, please contact Ms. KarShelia Kinard, Science Mission Directorate, NASA Headquarters, Washington, DC 20546, (202) 358-2355 or karshelia.kinard@nasa.gov.

The agenda for the meeting includes the following topics:

—Planetary Science Division Update

—Planetary Science Division Research and Analysis Program Update

It is imperative that the meeting be held on these dates to accommodate the scheduling priorities of the key participants.

Patricia Rausch,
Advisory Committee Management Officer, National Aeronautics and Space Administration.

[FR Doc. 2022-11315 Filed 5-25-22; 8:45 am]

BILLING CODE 7510-13-P